ENVIRONMENTAL PROTECTION AGENCY

40 CFR Part 52

[EPA-R09-OAR-2009-0272; FRL-8923-3]

Revisions to the California State Implementation Plan, San Joaquin Valley Unified Air Pollution Control District and South Coast Air Quality Management District

AGENCY: Environmental Protection Agency (EPA).

ACTION: Proposed rule.

SUMMARY: EPA is proposing to approve revisions to the San Joaquin Valley Unified Air Pollution Control District (SJVUAPCD) and South Coast Air Quality Management District (SCAQMD) portions of the California State Implementation Plan (SIP). These revisions concern particulate matter emissions from open burning; wood burning fireplaces and heaters; and the storage, handling, and transportation of coke, coal, and sulfur. We are proposing to approve local rules that regulate these emissions under the Clean Air Act as amended in 1990 (CAA or the Act). We are taking comments on this proposal and plan to follow with a final action.

DATES: Any comments must arrive by July 27, 2009.

ADDRESSES: Submit comments, identified by docket number EPA-R09-OAR-2009-0272, by one of the following methods:

• Federal eRulemaking Portal: http://www.regulations.gov. Follow the on-line instructions.

• E-mail: steckel.andrew@epa.gov.

• Mail or deliver: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Mae Wang, EPA Region IX, (415) 947-4124, wang.mae@epa.gov.

SUPPLEMENTARY INFORMATION: Throughout this document, “we,” “us” and “our” refer to EPA.

Table of Contents

I. The State's Submittal

A. What rules did the State submit?

B. Are there other versions of these rules?

C. What is the purpose of the submitted rule revisions?

II. EPA's Evaluation and Action

A. How is EPA evaluating the rules?

B. Do the rules meet the evaluation criteria?

C. EPA recommendations to further improve the rules.

D. Public Comment and Final Action.

III. Statutory and Executive Order Reviews.

I. The State's Submittal

A. What rules did the State submit?

Table 1 lists the rules addressed by this proposal with the dates that the rules were amended by the local air agencies and submitted by the California Air Resources Board (CARB).

Table 1—Submitted Rules
Local agency | Rule # | Rule title | Amended | Submitted
SJVUAPCD | 4103 | Open Burning | 05/17/07 | 04/06/09
SJVUAPCD | 4901 | Wood Burning Fireplaces and Wood Burning Heaters | 10/16/08 | 12/23/08
SCAQMD | 1158 | Storage, Handling, and Transport of Coke, Coal and Sulfur | 07/11/08 | 12/23/08

On April 20, 2009, the submittal of SJVUAPCD Rule 4901 and SCAQMD Rule 1158 was determined to meet the completeness criteria in 40 CFR part 51, appendix V, which must be met before formal EPA review. On May 13, 2009, the submittal of SJVUAPCD Rule 4103 was determined to meet the completeness criteria.

B. Are there other versions of these rules?

A version of SJVUAPCD Rule 4103 was approved into the SIP on April 11, 2006 (71 FR 18216). A version of SJVUAPCD Rule 4901 was approved into the SIP on September 30, 2003 (68 FR 56181). A version of SCAQMD Rule 1158 was approved into the SIP on June 10, 2002 (67 FR 39616).

C. What is the purpose of the submitted rule revisions?

Section 110(a) of the Clean Air Act (CAA) requires states to submit regulations that control volatile organic compounds, nitrogen oxides, particulate matter, and other air pollutants which harm human health and the environment. These rules were developed as part of local air districts' programs to control these pollutants.

The purpose of SJVUAPCD Rule 4103 is to regulate open burning activities and minimize smoke impacts on the public. The purpose of SJVUAPCD Rule 4901 is to limit emissions of carbon monoxide and particulate matter from wood burning fireplaces, wood burning heaters, and outdoor wood burning devices. The purpose of SCAQMD Rule 1158 is to reduce emissions of particulate matter from the storage, handling, and transport of coke, coal, and sulfur. EPA's technical support documents (TSDs) have more information about these rules.

II. EPA's Evaluation and Action

A. How is EPA evaluating the rules?

Generally, SIP rules must be enforceable (see section 110(a) of the CAA) and must not relax existing requirements (see sections 110(l) and 193). In addition, SIP rules must implement Reasonably Available Control Measures (RACM), including Reasonably Available Control Technology (RACT), in moderate PM nonattainment areas, and Best Available Control Measures (BACM), including Best Available Control Technology (BACT), in serious PM nonattainment areas (see CAA sections 189(a)(1) and 189(b)(1)). SJVUAPCD regulates a PM-10 maintenance area so must continue to fulfill the requirements of BACM/BACT. SCAQMD regulates a serious PM-10 nonattainment area (see 40 CFR part 81), so SCAQMD Rule 1158 must fulfill the requirements of BACM/BACT.

Guidance and policy documents that we used to help evaluate rules consistently include the following guidance documents:

1. Requirements for Preparation, Adoption, and Submittal of Implementation Plans, U.S. EPA, 40 CFR part 51.

2. Issues Relating to VOC Regulation Cutpoints, Deficiencies, and Deviations, EPA (May 25, 1988). [The Bluebook]

3. Addendum to the General Preamble for the Implementation of Title I of the Clean Air Act Amendments of 1990, 59 FR 41998 (August 16, 1994).

4. PM-10 Guideline Document (EPA-452/R-93-008).

5. 2007 Ozone Plan, San Joaquin Valley Air Pollution Control District (April 30, 2007). http://www.arb.ca.gov/planning/sip/2007sip/sjv8hr/sjvozone.htm.

6. Minimum BACM/RACM Control Measures for Residential Wood Combustion Rules, EPA Region IX (February 17, 2009).

7. 2008 PM2.5 Plan, San Joaquin Valley Air Pollution Control District (April 30, 2008). http://www.valleyair.org/air_quality_plans/aq_proposed_pm25_2008.htm.

B. Do the rules meet the evaluation criteria?

We believe that SJVUAPCD Rules 4103 and 4901, and SCAQMD Rule 1158, are consistent with the relevant policy and guidance regarding enforceability, BACM/BACT, and SIP relaxations. The TSDs have more information on our evaluation.

C. EPA Recommendations To Further Improve the Rules

The TSD for SJVUAPCD Rule 4901 describes additional revisions that do not affect EPA's current action but are recommended for the next time the local agency modifies the rule.

D. Public Comment and Final Action

Because EPA believes the submitted rules fulfill all relevant requirements, we are proposing to fully approve them as described in section 110(k)(3) of the CAA. We will accept comments from the public on this proposal for the next 30 days. Unless we receive convincing new information during the comment period, we intend to publish a final approval action that will incorporate these rules into the federally enforceable SIP.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Incorporation by reference, Intergovernmental relations, Particulate matter, Reporting and recordkeeping requirements.

Dated: June 8, 2009.
Jane Diamond,
Acting Regional Administrator, Region IX.

[FR Doc. E9-15145 Filed 6-25-09; 8:45 am]

BILLING CODE 6560-50-P